DEPARTMENT OF COMMERCE

National Oceanic and Atmospheric Administration

[I.D. 032604A]

Endangered and Threatened Species; Take of Anadromous Fish

AGENCY: National Marine Fisheries Service (NMFS), National Oceanic and Atmospheric Administration (NOAA), Commerce.

ACTION: Applications for two scientific research permits (1482, 1484) and three permit modifications (1156, 1341, 1345).

SUMMARY: Notice is hereby given that NMFS has received two scientific research permit applications and three applications to modify existing permits relating to Pacific salmon and steelhead. All of the proposed research is intended to increase knowledge of species listed under the Endangered Species Act (ESA) and to help guide management and conservation efforts.

DATES: Comments or requests for a public hearing on the applications or modification requests must be received at the appropriate address or fax number (see ADDRESSES) no later than 5 p.m. Pacific daylight-saving time on May 10, 2004.

ADDRESSES: Written comments on the applications or modification requests should be sent to Protected Resources Division, NMFS, F/NWO3, 525 NE Oregon Street, Suite 500, Portland, OR 97232-2737. Comments may also be sent via fax to 503-230-5435 or by e-mail to resapps2.nwr@NOAA.gov.

FOR FURTHER INFORMATION CONTACT: Garth Griffin, Portland, OR (ph: 503-231-2005, Fax: 503-230-5435, e-mail: Garth.Griffin@noaa.gov). Permit application instructions are available at http://www.nwr.noaa.gov.

SUPPLEMENTARY INFORMATION:

Species Covered in This Notice

The following listed species and evolutionarily significant units (ESUs) are covered in this notice:

Sockeye salmon (Oncorhynchus nerka): endangered Snake River (SR).

Chinook salmon (O. tshawytscha): endangered naturally-produced and artificially propagated upper Columbia River (UCR); threatened naturally-produced and artificially propagated SR spring/summer (spr/sum); threatened SR fall; threatened lower Columbia River (LCR); threatened naturally produced and artificially-propagated Puget Sound (PS); threatened upper Willamette River (UWR).

Chum salmon (O. keta): threatened Columbia River (CR); threatened Hood Canal summer (HC).

Steelhead (O. mykiss): threatened SR; threatened middle Columbia River (MCR); endangered UCR; threatened LCR; threatened UWR.

Coho Salmon (O. kisutch): threatened Southern Oregon/Northern California Coast (SONCC).

Authority

Scientific research permits are issued in accordance with Section 10(a)(1)(A) of the ESA (16 U.S.C. 1531 et. seq) and regulations governing listed fish and wildlife permits (50 CFR 222-226). NMFS issues permits/modifications based on findings that such permits and modifications: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Applications Received

Permit 1156 - Modification 2

The U.S. Environmental Protection Agency (EPA) is seeking to modify Permit 1156 to increase the number of SR steelhead, SR spr/sum chinook salmon, SR fall chinook salmon, and PS chinook salmon they are currently allowed to take. They also want to be allowed to take adult and juvenile SR sockeye salmon and juvenile HC chum salmon. Under the current permit they are allowed to annually capture, handle, and release adult and juvenile, naturally-produced and artificially-propagated UCR spring chinook salmon; adult and juvenile, naturally-produced and artificially-propagated UCR steelhead; adult and juvenile LCR chinook salmon; adult and juvenile SR steelhead; adult and juvenile MCR steelhead; adult and juvenile LCR steelhead; juvenile, naturally-produced and artificially-propagated PS chinook salmon; adult and juvenile UWR steelhead; adult and juvenile UWR chinook salmon; adult and juvenile SR spr/sum chinook salmon; adult and juvenile SR fall chinook salmon; and adult and juvenile SONCC coho salmon. The research takes place in randomly selected river systems in Oregon, Idaho, and Washington. The research was originally conducted under Permit 1156, which was in place for 5 years (63 FR 45799) with two modifications (65 FR 20954, 66 FR 56658, 67 FR 34909, 67 FR 39960, 67 FR 66129); it expired on December 31, 2002. A new 5-year permit was granted for the research in 2003, and the EPA is seeking to modify that permit to change the take allotment and add two cooperators. Nonetheless, the modification reflects a continuation of ongoing research. The research is designed to assess species status and trends in selected river systems. The EPA intends to continue conducting annual surveys for fish, macroinvertebrates, algae, and microbial assemblages as well as physical and chemical habitat conditions. The research will benefit listed fish by providing baseline information about water quality in the study areas and will also support enforcement of the Clean Water act in those river systems where listed fish are present. The EPA proposes to capture the fish (using backpack or raft electrofishing), sample them for biological information, and release them. The EPA does not intend to kill any of the fish being captured, but a small percentage may die as an unintended result of the research activities. Dynamac Corporation, Washington Department of Energy, and Idaho Department of Environmental Quality will be cooperators in the research. The EPA requests that cooperators' biologists be authorized as agents of the EPA in conducting the research.

Permit 1341 - Modification 1

The Shoshone-Bannock (Sho-Ban) Tribes are seeking to modify Permit 1341 to increase the number of SR spr/sum chinook salmon they are currently allowed to capture. Under the current permit, they annually capture, handle, and release SR sockeye salmon and SR spring/summer chinook salmon in Pettit and Alturas Lakes in Idaho State. The purpose of the research is to generate data on chinook and sockeye overwinter survival, downstream migration survival, and downstream migration timing. This data, in turn, is used to evaluate various release strategies and calculate smolt-to-adult return rates. The research benefits the fish by helping managers run the Pettit and Alturas Lakes sockeye salmon reintroduction program in the most efficient way possible; the program is considered key to the survival and recovery of SR sockeye salmon. Under the permit, juvenile SR sockeye salmon and spr/sum chinook salmon are collected in rotary screw traps and weirs. The fish are then sampled for biological information and released (or they receive a passive integrated transponder tag and are released). In addition, to determine trap efficiencies, a portion of the juvenile SR sockeye salmon captured are marked with a small cut on the caudal fin, released upstream of the traps, captured at the traps a second time, inspected for the caudal fin mark, and released. The Sho-Ban tribes do not intend to kill any of the fish being captured, but a small number may die as an unintended result of the research activities.

Permit 1345 - Modification 1

The Washington Department of Fish and Wildlife (WDFW) is seeking to modify Permit 1345 to increase the number of adult and juvenile PS chinook salmon they are currently allowed to capture every year. Under the current permit, they are allowed to annually take UCR steelhead and chinook salmon, PS chinook salmon, SR steelhead, SR spr/sum chinook, and MCR steelhead during the course of Washington State's annual warmwater fish stock assessment surveys. The purpose of these surveys is to gather data on the state's fish species and thereby allow the WDFW to manage them in the best way possible. The research will benefit listed fish by giving managers more information on their abundance, distribution, and health. The surveys are usually conducted using boat electrofishing equipment in the backwater sloughs, oxbow lakes, and ponds associated with major river systems throughout Washington State. During the research, any captured juvenile listed salmonids are sampled for biological information and immediately released. If adult listed salmonids are seen, the electrofishing equipment is turned off and they are allowed to escape. The WDFW does not intend to kill any of the fish being captured, but a small percentage may die as an unintended result of the research activities.

Permit 1482

The WDFW is requesting a 5-year research permit to annually capture, handle, and release juvenile and adult UCR steelhead and spring chinook salmon (natural and artificially propagated). The research will take place in the Methow, Wenatchee, Entiat, and mainstem Columbia Rivers in Washington State. The research would be conducted during the course of two studies: Salmonid Stock Assessment and Habitat Utilization, and Habitat Evaluation, Research, and Monitoring. The purpose of the research is to collect biological data on the salmonid populations in question, determine where salmonids are present in the areas listed above, genetically identify individual salmonid stocks, and examine habitat condition where the salmon and steelhead are found. The research will benefit the fish by helping managers (a) understand the potential effects of proposed land use practices, (b) determine appropriate regulatory and habitat protection measures in the areas where land use actions are planned, (c) project the impacts of potential hydraulic projects, and (d) evaluate the effectiveness of local forest practices in terms of their ability to protect listed salmonids. The WDFW proposes to capture the fish using electrofishing equipment, seines, and barbless hook-and-line angling gear. Once captured, the fish will be variously tissue sampled, measured, marked, allowed to recover, and released. The WDFW does not intend to kill any of the fish being captured, but a small percentage may die as an unintended result of the research activities.

Permit 1484

The Washington Department of Natural Resources (WDNR) is requesting a 5-year research permit to annually handle juvenile PS chinook salmon, LCR chinook salmon, LCR steelhead, and CR chum salmon in WDNR-managed forest lands in the State of Washington. The purpose of the research is to conduct surveys to correctly identify stream types. By correctly identifying stream types, the WDNR could potentially benefit listed species by increasing the size of riparian zones and thus protecting the type of habitat needed for healthy salmonid populations. The WDNR proposes to capture the fish (using backpack electrofishing), identify, and release them. The WDNR does not intend to kill any of the fish being captured, but a small percentage may die as an unintended result of the research activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 30,2004.
Susan Pultz,
Acting Chief, Endangered Species Division, Office of Protected Resources, National Marine Fisheries Service.

[FR Doc. 04-8114 Filed 4-8-04; 8:45 am]

BILLING CODE 3510-22-S